DEPARTMENT OF DEFENSE

GENERAL SERVICES ADMINISTRATION

NATIONAL AERONAUTICS AND SPACE ADMINISTRATION

48 CFR Parts 23 and 52

Federal Acquisition Regulation; FAR Case 1998-020, Hazardous Material Safety Data, Notice of Public Meeting

AGENCIES: Department of Defense (DoD), General Services Administration (GSA), and National Aeronautics and Space Administration (NASA).

ACTION: Notice of public meeting with request for comments.

SUMMARY: The Civilian Agency Acquisition Council and the Defense Acquisition Regulations Council (Councils) are hosting a public meeting to facilitate an open dialogue between the Government and interested parties on proposed amendments to the Federal Acquisition Regulation regarding hazardous material safety data.

DATES: The meeting will be held on November 23, 2004, from 9 a.m. to 4 p.m., EST.

To facilitate discussions at the public meeting, interested parties are encouraged to provide, no later than November 15, 2004, written comments on issues they would like addressed at the public meeting.

ADDRESSES: The meeting will be held at the General Services Administration, 1800 F Street, NW, Washington, DC 20405, Room 5141A. Participants are encouraged to check the Web site prior to the public meeting to ensure the location has not changed as a result of a large number of registrants.

Interested parties may register, view the draft final rule, submit electronic comments, and obtain directions at http://www.acq.osd.mil/dpap/dars/coming.htm.

FOR FURTHER INFORMATION CONTACT: Mr. Craig Goral, Procurement Analyst, at (202) 501-3856.

Special Accommodations: The public meeting is physically accessible to people with disabilities. Request for sign language interpretation or other auxiliary aids should be directed to Craig Coral, at (202) 501-3856, at least 5 days prior to the meeting date.

SUPPLEMENTARY INFORMATION:

A. Background

This FAR case proposes to revise policies and procedures for the submission of material safety data sheets (MSDS) by contractors who provide hazardous materials to the Government. An original proposed rule was published in the Federal Register at 67 FR 632, January 4, 2002. A second proposed rule was published in the Federal Register at 69 FR 10118, March 3, 2004. The comment period on the second proposed rule closed to the public on May 3, 2004. Public comments on the second proposed rule may be viewed at http://www.acqnet.gov/far/. The Federal Acquisition Law Team has reviewed the public comments and prepared a draft final rule for discussion at the public meeting.

B. Public Meeting

Attendees are encouraged but not required to register for the public meeting, to ensure adequate room accommodations. Interested parties may also offer additional questions for discussion at the public meeting.

Dated: November 4, 2004
Laura Auletta,
Director, Contract Policy Division.

[FR Doc. 04-25044 Filed 11-9-04; 8:45 am]

BILLING CODE 6820-EP-S